NUCLEAR REGULATORY COMMISSION

Applications for Licenses to Export Nuclear Material

Pursuant to 10 CFR 110.70 (b)(3) “Public notice of receipt of an application”, please take notice that the Nuclear Regulatory Commission has received the following application for an export license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the applications for licenses to export deuterium oxide (heavy water) as defined in 10 CFR part 110 and noticed herein, the Commission does not evaluate the health, safety or environmental effects in the recipient nation of the material to be exported. The information concerning the application follows.

NRC Export License Application
Name of applicant date of application date received application No. | Description of material to be exported | Country of destination
Poco Graphite, Inc., 12/03/99; 01/18/00; XMAT0400 | Nuclear grade graphite, 680,385 kilograms for commercial, non-nuclear end use | Various.

Dated this 16th day of March 2000 at Rockville, Maryland.
For the Nuclear Regulatory Commission.
Ronald D. Hauber,
Deputy Director, Office of International Programs.

[FR Doc. 00-7098 Filed 3-21-00; 8:45 am]

BILLING CODE 7590-01-P